DEPARTMENT OF TRANSPORTATION

Federal Aviation Administration

14 CFR Part 71

[Docket No. FAA-2002-13971; Airspace Docket No. 02-AAL-08]

Establishment of Class E Airspace; Marshall, AK

AGENCY: Federal Aviation Administration (FAA), DOT.

ACTION: Final rule; correction.

SUMMARY: This action corrects a final rule that was published in the Federal Register on Monday, May 5, 2003, (68 FR 23580). The final rule established Class E airspace at Marshall, AK.

EFFECTIVE DATE: 0901 UTC, September 4, 2003.

FOR FURTHER INFORMATION CONTACT: Derril Bergt, AAL-531, Federal Aviation Administration, 222 West 7th Avenue, Box 14, Anchorage, AK 99513-7587; telephone number (907) 271-2796; fax: (907) 271-2850; e-mail: Derril.CTR.Bergt@faa.gov. Internet address: http://www.alaska.faa.gov/at.

SUPPLEMENTARY INFORMATION:

History

Federal Register Document 03-11022 published on Monday, May 5, 2003, (68 FR 23580) established Class E airspace at Marshall, AK. The Class E airspace was defined with reference to the Airport Reference Point for the Marshall Don Hunter Sr. Airport, Marshall, AK. The published coordinates of the Marshall Don Hunter Sr. Airport were wrong and the name of the airport was incorrectly stated.

Accordingly, pursuant to the authority delegated to me, the Class E airspace at Marshall, AK as published in the Federal Register on Monday, May 5, 2003 (68 FR 23580) is corrected as follows:

PART 71—[Corrected]

§ 71.1 [Corrected]

On page 23581, Column 2, second paragraph second line, change “(Marshall Airport, AK)” to read “(Marshall Don Hunter Sr. Airport, AK).” On page 23581, Column 2, second paragraph third line, change “(Lat. 61°51′53″ N., long. 162°01′28″ W.)” to “(Lat. 61°51′ 51″ N., long. 162°01′34″ W.)”

Issued in Anchorage, AK, on May 28, 2003.
Trent S. Cummings,
Manager, Air Traffic Division, Alaskan Region.

[FR Doc. 03-14162 Filed 6-4-03; 8:45 am]

BILLING CODE 4910-13-P